DEPARTMENT OF COMMERCE

National Oceanic and Atmospheric Administration

50 CFR Part 648

RIN 0648-BF26

Fisheries of the Northeastern United States; Amendment 18 to the Northeast Multispecies Fishery Management Plan

AGENCY: National Marine Fisheries Service (NMFS), National Oceanic and Atmospheric Administration (NOAA), Commerce.

ACTION: Notice of availability of proposed Fishery Management Plan amendment; request for comments.

SUMMARY: The New England Fishery Management Council has submitted Amendment 18 to the Northeast Multispecies Fishery Management Plan. We are requesting comments from the public on this Amendment, which was developed to prevent excessive consolidation in the groundfish fishery, promote fleet diversity, and enhance sector management. Amendment 18 includes measures that would limit the number of permits and annual groundfish allocation that an entity could hold. This action would also remove several effort restrictions to increase operational flexibility for limited access handgear vessels.

DATES: Comments must be received on or before February 6, 2017.

ADDRESSES: You may submit comments on this document, identified by NOAA-NMFS-2015-0143, by either of the following methods:

• Electronic Submission: Submit all electronic public comments via the Federal e-Rulemaking Portal. Go to www.regulations.gov/#!docketDetail;D=NOAA-NMFS-2015-0143, click the “Comment Now!” icon, complete the required fields, and enter or attach your comments.

• Mail: Submit written comments to John K. Bullard, Regional Administrator, NMFS, Greater Atlantic Regional Fisheries Office, 55 Great Republic Drive, Gloucester, MA 01930. Mark the outside of the envelope: “Comments on Northeast Multispecies Amendment 18.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the commenter may be publicly accessible. NMFS will accept anonymous comments (enter “N/A” in the required fields if you wish to remain anonymous). Attachments to electronic comments will be accepted in Microsoft Word, Excel, or Adobe PDF file formats only.

Copies of Amendment 18, including its environmental impact statement, preliminary Regulatory Impact Review, and Initial Regulatory Flexibility Analysis (EIS/RIR/IRFA), are available from the New England Fishery Management Council, 50 Water Street, Newburyport, MA 01950. The EIS/RIR/IRFA is also accessible via the Internet at: www.greateratlantic.fisheries.noaa.gov.

FOR FURTHER INFORMATION CONTACT: William Whitmore, Fishery Policy Analyst, 978-281-9182.

SUPPLEMENTARY INFORMATION:

Background

The New England Fishery Management Council has submitted to us Amendment 18 to the Northeast Multispecies Fishery Management Plan. The Council identified four goals for Amendment 18:

1. Promote a diverse groundfish fishery, including different gear types, vessel sizes, ownership patterns, geographic locations, and levels of participation through sectors and permit banks;

2. Enhance sector management to effectively engage industry to achieve management goals and improve data quality;

3. Promote resilience and stability of fishing businesses by encouraging diversification, quota utilization, and capital investment; and

4. Prevent any individual(s), corporation(s), or other entity(ies) from acquiring or controlling excessive shares of the fishery access privileges.

Amendment 18 addresses these goals through two mechanisms. First, this action proposes to establish accumulation limits on the number of groundfish permits and the amount of Potential Sector Contribution (PSC) that an entity may hold. PSC is the proportion of total landings of a particular stock associated with each permit's fishing history. PSC also represents the allocation that an individual permit would contribute to a sector once enrolled. Second, this action proposes to remove several restrictions on limited access handgear vessels to promote participation in this small-boat fishery.

The PSC limit would restrict the amount of PSC that may be held by an entity in aggregate across all allocated stocks to an average of no more than 15.5. With 15 allocated stocks, the total PSC across all stocks held by an individual or entity must be ≤ 232.5 (an average of 15.5 per stock). An individual or entity could hold PSC for a single stock in excess of 15.5, so long as the total holdings do not exceed 232.5. Supporting analyses indicate that no one entity currently holds more than 140.4 PSC. As a result, if approved, this limit is unlikely to immediately constrain any entity.

The Amendment also includes a permit cap that limits an entity to holding no more than 5 percent of groundfish permits. An entity would be prohibited from acquiring a permit that would result in it exceeding the 5-percent cap. There are approximately 1,373 permits currently in the fishery; a 5-percent cap would limit an entity to approximately 69 permits. As of May 1, 2014, the most permits held by an entity are 55; therefore, if approved, this alternative is unlikely to immediately restrict any entities.

Amendment 18 proposes several management measures for limited access handgear vessels (Handgear A permitted vessels) to remove effort restrictions, increase operational flexibility, and encourage participation in the fishery.

First, the March 1-20 spawning-block closure would be removed for all Handgear A vessels. Fishing effort by Handgear A vessels is restricted by a small annual catch limit and vessels are subject to other spawning closures. This measure would make the regulations for Handgear A vessels more consistent with vessels fishing in sectors, which are already exempted from the 20-day spawning block.

Second, Handgear A vessels would no longer be required to carry a standard fish tote on board. This measure was initially implemented to aid in the sorting and weighing of fish by both fishermen and enforcement personnel. However, enforcement no longer uses totes for at-sea weight and volume estimates so the requirement for vessels to carry a tote is unnecessary.

Lastly, this action would allow a sector with Handgear A vessels to request that Handgear A vessels be exempt from the requirement to use a Vessel Monitoring System. Instead, vessels would be required to declare trips through a call-in system. This measure is intended to encourage Handgear A vessels to enroll in a sector by reducing their operating expenses.

Public comments are being solicited on the Amendment through the end of the comment period stated in the DATES section above. A proposed rule that would implement the Amendment will be published in the Federal Register for public comment, as part of our evaluation of Amendment 18 under requirements of the Magnuson-Stevens Fishery Conservation Management Act. Public comments on the proposed rule must be received by the end of the comment period on Amendment 18 to be considered in the approval/disapproval decision on the Amendment. All comments received by the end of the Amendment 18 comment period, whether specifically directed to the Amendment or the proposed rule, will be considered in the approval/disapproval decision. Comments received after that day will not be considered in the approval/disapproval decision for Amendment 18. To be considered, comments must be received by the close of business on the last day of the comment period; that does not mean postmarked or otherwise transmitted by that date.

Authority: 16 U.S.C. 1801 et seq.

Dated: December 1, 2016.
Emily H. Menashes,
Acting Director, Office of Sustainable Fisheries, National Marine Fisheries Service.

[FR Doc. 2016-29189 Filed 12-5-16; 8:45 am]

BILLING CODE 3510-22-P